DEPARTMENT OF ENERGY

Federal Energy Regulatory Commission

[Docket Nos. RP00-536-001 and RP01-104-001]

Venice Gathering System, L.L.C.; Notice of Compliance Tariff Filing

April 18, 2002.

Take notice that on April 15, 2002, Venice Gathering System, L.L.C. (Venice) tendered for filing as part of its FERC Gas Tariff, Original Volume No. 1, the following tariff sheets, with an effective date of June 1, 2002:

First Revised Sheet No. 46

Fourth Revised Sheet No. 48

First Revised Sheet No. 94

Second Revised Sheet No. 95

First Revised Sheet No. 100

First Revised Sheet No. 107

First Revised Sheet No. 119

Second Revised Sheet No. 122

Second Revised Sheet No. 123

First Revised Sheet No. 138

First Revised Sheet No. 140

First Revised Sheet No. 141

Second Revised Sheet No. 141

First Revised Sheet No. 214

First Revised Sheet No. 215

Venice states that the revised tariff sheets are being filed in compliance with the Commission's March 1, 2002 order in the referenced dockets. Venice states that the revised sheets are intended to bring Venice in full compliance with FERC Order Nos. 637, 587-G and 587-L.

Venice states that on September 1, 2000 in Docket No. RP00-536-000, Venice filed pro forma tariff sheets to comply with Order No. 637. The filing included proposed revisions to Venice's scheduling procedures, capacity segmentation and penalty provisions, and other changes required by Order No. 637.

Venice further states that in a filing dated November 7, 2000, in Docket No. RP01-104-000, Venice defended its existing tariff provisions covering the netting and trading of imbalances (Article 11) as consistent with Order Nos. 587-G and 587-L. By order dated January 19, 2001, the Commission accepted Venice's explanation of its netting and trading provisions, found them compliant with the requirements of Order Nos. 587-G and 587-L, subject to the outcome of Venice's ongoing Order No. 637 proceeding.

On March 1, 2002, the Commission determined that Venice had generally complied with the Commission's requirements but required further modifications to certain of Venice's pro forma tariff sheets. On April 15, 2002, Venice filed revised tariff sheets in response to the Commission's March 1, 2002 order.

Venice states that copies of its April 15th filing have been mailed to each of the parties who have intervened in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-10012 Filed 4-23-02; 8:45 am]

BILLING CODE 6717-01-P